FEDERAL COMMUNICATIONS COMMISSION

47 CFR Part 73

[DA 25-165; MB Docket No. 24-667; RM-11992; FR ID 282769]

Radio Broadcasting Services; Ethete, Wyoming

AGENCY: Federal Communications Commission.

ACTION: Final rule.

SUMMARY: This document amends the Table of FM Allotments, of the Federal Communications Commission's (Commission) rules, by allotting FM Channel 260C0 at Ethete, Wyoming, as a Tribal Allotment. The staff engineering analysis indicates that Channel 260C0 can be allotted to Ethete, Wyoming, consistent with the minimum distance separation requirements of the Commission's rules, with a site restriction of 42 km (26 miles) north of the community. The reference coordinates are 43-22-25 NL and 108-36-28 WL.

DATES: Effective April 14, 2025.

FOR FURTHER INFORMATION CONTACT: Rolanda F. Smith, Media Bureau, (202) 418-2054, Rolanda-Faye.Smith@fcc.gov.

SUPPLEMENTARY INFORMATION: This is a synopsis of the Commission's Report and Order, adopted February 25, 2025 and released February 26, 2025. The full text of this Commission decision is available online at https://apps.fcc.gov/ecfs/. The full text of this document can also be downloaded in Word or Portable Document Format (PDF) at https://www.fcc.gov/edocs. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend table 1 to paragraph (b) under Wyoming, by adding in alphabetical order an entry for “Ethete” to read as follows:

§ 73.202 Table of Allotments.

* * * * *

(b) Table of FM Allotments.

Table 1 to Paragraph (b)
[U.S. States]
| Channel No.
* * * * *
Wyoming
* * * * *
Ethete | 260C0
* * * * *

[FR Doc. 2025-03593 Filed 3-6-25; 8:45 am]

BILLING CODE 6712-01-P